DEPARTMENT OF COMMERCE

National Oceanic and Atmospheric Administration

[I.D. 093002C]

Endangered Species; File No. 1245

AGENCY: National Marine Fisheries Service (NMFS), National Oceanic and Atmospheric Administration (NOAA), Commerce.

ACTION: Issuance of permit amendment.

SUMMARY: Notice is hereby given that J. David Whitaker has been issued a modification to scientific research Permit No. 1245.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Lillian Becker or Ruth Johnson, (301)713-2289.

SUPPLEMENTARY INFORMATION: On September 27, 2001, notice was published in the Federal Register (66 FR 49353) that a modification of Permit No. 1245, issued May 19, 2000 (65 FR 36666), had been requested by the above-named individual. A second modification request was published in the Federal Register on August 6, 2002 (67 FR 50874). The requested modifications were granted under the authority of the Endangered Species Act of 1973, as amended (ESA; 16 U.S.C. 1531 et seq.) and the regulations governing the taking, importing, and exporting of endangered and threatened species (50 CFR 222-226).

The modifications extend the permit for an additional two years and increases non-lethal take of loggerhead sea turtles from 250 to 300 and leatherbacks from 1 to 3.

Issuance of this amendment, as required by the ESA was based on a finding that such permit (1) was applied for in good faith, (2) will not operate to the disadvantage of the endangered species which is the subject of this permit, and (3) is consistent with the purposes and policies set forth in section 2 of the ESA.

Dated: October 23, 2002.
Eugene T. Nitta,
Acting Chief, Permits, Conservation and Education Division, Office of Protected Resources, National Marine Fisheries Service.

[FR Doc. 02-27509 Filed 10-28-02; 8:45 am]

BILLING CODE 3510-22-S